FEDERAL ELECTION COMMISSION

Sunshine Act Meeting

TIME AND DATE: Thursday, July 11, 2019 At 10 a.m.

PLACE: 1050 First Street NE, Washington, DC (12th Floor)

STATUS: This meeting will be open to the public.

MATTERS TO BE CONSIDERED:

Internet Ad Disclaimers Rulemaking Proposal for REG 2011-02 (Internet Communication Disclaimers and Definition of “Public Communication”)

Draft Advisory Opinion 2019-08: Omar2020

Draft Advisory Opinion 2019-09: Mad Dog PAC

Draft Advisory Opinion 2019-12: Area 1 Security, Inc.

Management and Administrative Matters

CONTACT PERSON FOR MORE INFORMATION: Judith Ingram, Press Officer, Telephone: (202) 694-1220.

Individuals who plan to attend and require special assistance, such as sign language interpretation or other reasonable accommodations, should contact Laura E. Sinram, Acting Secretary and Clerk, at (202) 694-1040, at least 72 hours prior to the meeting date.

Laura E. Sinram,
Acting Secretary and Clerk of the Commission.

[FR Doc. 2019-14636 Filed 7-3-19; 4:15 pm]

BILLING CODE 6715-01-P